COMMODITY FUTURES TRADING COMMISSION

Sunshine Act Meetings

TIME AND DATE: 10:00 a.m., Thursday, March 7, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Amendment to the Comparability Determination for Japan: Margin Requirements for Uncleared Swaps for Swap Dealers and Major Swap Participants;

• Comparability Determination for Australia: Margin Requirements for Uncleared Swaps for Swap Dealers and Major Swap Participants;

• National Futures Association (“NFA”) Proposal to Amend Certain NFA Compliance Rules and Interpretive Notices to Incorporate Swaps;

• Notice of Revised Registration Form 7-R;

• Final Rule Amending Regulations on Segregation of Assets Held as Collateral in Uncleared Swap Transactions; and

• System of Records Notices for CFTC Privacy Act Systems CFTC-12 (NFA Applications Suite), CFTC-45 (Comments Online), and CFTC-53 (Contact Lists).

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: February 26, 2019.
Christopher Kirkpatrick,
Secretary of the Commission.

[FR Doc. 2019-03768 Filed 2-27-19; 11:15 am]

BILLING CODE 6351-01-P